DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2006 Short-Form Experiment.

Form Number(s): S-1A, S-1B, S-1C.

Agency Approval Number: None.

Type of Request: New collection.

Burden: 4,734 hours.

Number of Respondents: 28,400.

Avg Hours Per Response: 10 minutes.

Needs and Uses: The U.S. Census Bureau requests authorization from the Office of Management and Budget (OMB) to collect data from the public as part of the Decennial Short Form Experiment (SFE). This is one of a number of tests planned to improve the 2010 Census.

In response to the lessons learned from Census 2000, and in striving to better meet our Nation's ever-expanding needs for social, demographic, and geographic information, the U.S. Department of Commerce and the Census Bureau have developed a multi-year effort to completely modernize and re-engineer the 2010 Census of Population and Housing.

In order to meet our constitutional and legislative mandates, we must implement a re-engineered 2010 Census that is cost-effective and improve measurement. Achieving this strategic goal requires an iterative series of tests that will provide an opportunity to evaluate new or improved question wording, methodology, technology, and questionnaire design. The 2006 SFE is part of this testing cycle, which has been planned to allow us to finalize methodologies and operational procedures in time to conduct a Dress Rehearsal in 2008 and a successful census in 2010.

The SFE is a national mail survey test. This test will be conducted with households that have a city-type address and that receive mail from the U.S. Postal Service (USPS). The population of interest includes those households that would be eligible for a mailout-mailback short form. The one exception is that households in Austin, TX will be excluded from the sample in order to avoid interference with the 2006 Census Test, which is taking place in Austin.

Like other research leading up to the 2010 Census, this test is designed to evaluate revised methods intended to improve accuracy and/or contain costs. In conjunction with the results of other testing (e.g., cognitive tests, focus groups, the 2003 National Census Test, the 2004 Census Test, and the 2005 National Census Test) the 2006 SFE will help us develop the optimal data collection methodology for the 2010 Census.

Affected Public: Individuals or households.

Frequency: One-time.

Respondent's Obligation: Mandatory.

Legal Authority: Title 13 U.S.C., Sections 141 and 193.

OMB Desk Officer: Susan Schechter, (202) 395-5103.

Copies of the above information collection proposal can be obtained by calling or writing Diana Hynek, Departmental Paperwork Clearance Officer,(202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: December 13, 2005.
Madeleine Clayton,
Management Analyst, Office of the Chief Information Officer.

[FR Doc. E5-7456 Filed 12-15-05; 8:45 am]

BILLING CODE 3510-07-P